DEPARTMENT OF HOMELAND SECURITY

Federal Emergency Management Agency

44 CFR Part 65

[Docket No. FEMA-D-7547]

Changes in Flood Elevation Determinations

AGENCY: Federal Emergency Management Agency (FEMA), Emergency Preparedness and Response Directorate, Department of Homeland Security.

ACTION: Interim rule.

SUMMARY: This interim rule lists communities where modification of the Base (1% annual chance) Flood Elevations (BFEs) is appropriate because of new scientific or technical data. New flood insurance premium rates will be calculated from the modified BFEs for new buildings and their contents.

DATES: These modified BFEs are currently in effect on the dates listed in the table and revise the Flood Insurance Rate Map(s) (FIRMs) in effect prior to this determination for each listed community.

From the date of the second publication of these changes in a newspaper of local circulation, any person has ninety (90) days in which to request through the community that the Director reconsider the changes. The modified elevations may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, floodplains, reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Alabama:
Houston | City of Dothan | July 18, 2003, July 25, 2003; The Dothan Eagle | The Honorable Chester L. Sowell, III, Mayor of the City of Dothan, P.O. Box 2128, Dothan, Alabama 36302 | July 10, 2003 | 010104 E
Tuscaloosa | City of Northport | September 19, 2003, September 26, 2003; The Tuscaloosa News | The Honorable Harvey Fretwell, Mayor of the City of Northport, P.O. Box 569, Northport, Alabama 35476 | December 26, 2003 | 010202 E
Tuscaloosa | City of Tuscaloosa | September 19, 2003, September 26, 2003; The Tuscaloosa News | The Honorable Alvin P. Dupont, Mayor of the City of Tuscaloosa, P.O. Box 2089, Tuscaloosa, Alabama 35403 | December 26, 2003 | 010203 E
Connecticut:
Fairfield | Town of Greenwich | September 12, 2003, September 19, 2003; Greenwich Time | Mr. Richard V. Bergstresser, Town of Greenwich First Selectman, Greenwich Town Hall, 101 Field Point Road, Greenwich, Connecticut 06830 | September 5, 2003 | 090008 C
Fairfield | Town of Greenwich | September 29, 2003, October 6, 2003; Greenwich Time | Mr. Richard V. Bergstresser, Town of Greenwich First Selectman, Greenwich Town Hall, 101 Field Point Road, Greenwich, Connecticut 06830 | September 22, 2003 | 090008 C
New Havan | Town of Madison | September 12, 2003, September 19, 2003; The Hartford Courant | Mr. Thomas S. Scarpati, Town of Madision First Selectman, Town Hall, 8 Campus Drive, Madison, Connecticut 06443 | December 19, 2003 | 090079 D
Windham | Town of Windham | August 11, 2003, August 18, 2003; The Chronicle | Mr. Michael Paulhaus, Town of Windham First Selectman, 979 Main Street, Willimantic, Connecticut 06226-2200 | August 4, 2003 | 090119 D
Delaware:
New Castle | Unincorporated Areas | July 24, 2003, July 31, 2003; The News Journal | Mr. Thomas P. Gordon, New Castle County Executive, New Castle County Government Center, 87 Reads Way, New Castle, Delaware 19720 | October 30, 2003 | 105085 G
Florida:
Orange | Unincorporated Areas | July 18, 2003, July 25, 2003; Orlando Sentinel | M. Krishnamurthy, Ph.D., P.E., Orange County Stormwater Management Manager, 4200 South John Young Parkway, Orlando, Florida 32839 | July 10, 2003 | 120179 E
Osceola | Unincorporated Areas | September 15, 2003, September 22, 2003; The Ledger | Mr. Edwin E. Hunzeker, Osceola County Manager, 1 Courthouse Square, Suite 4700, Kissimmee, Florida 34741-5488 | December 22, 2003, | 120189 F
Polk | Unincorporated Areas | September 15, 2003, September 22, 2003; The Ledger | Mr. Jim W. Keene, Polk County Manager, 330 West Church Street, P.O. Box 9005, Drawer CA01, Bartow, Florida 33831-9005 | December 22, 2003 | 120261 F
Georgia:
Cobb | Unincorporated Areas | August 1, 2003, August 8, 2003; Marietta Daily Journal | Mr. Samuel S. Owens, Chairman of the Cobb County Board of Commissioners, 100 Cherokee Street, Suite 300, Marietta, Georgia 30090-9680 | July 15, 2003 | 130052 F
Cobb | Unincorporated Areas | August 1, 2003, August 8, 2003; Marietta Daily Journal | Mr. Samuel S. Olens, Chairman of the Cobb County Board of Commissioners, 100 Cherokee Street, Marietta, Georgia 30090-9680 | November 7, 2003 | 130052 F
Columbia | Unincorporated Areas | July 17, 2003, July 24, 2003; The Augusta Chronicle | Mr. Steve Szablewski, Columbia County Administrator, 630 Ronald Reagan Drive, Evans, Georgia 30809 | July 10, 2003 | 130059 B
Fulton | Unincorporated Areas | August 1, 2003, August 8, 2003; Fulton County Daily Report | Mr. Thomas C. Andrews, Fulton County Manager, Fulton County Government Center, 141 Pryor Street, 10th Floor, Atlanta, Georgia 30303 | November 7, 2003 | 135160 E
Gwinnett | Unincorporated Areas | September 4, 2003, September 11, 2003; Gwinnett Daily Post | Mr. F. Wayne Hill, Chairman of the Gwinnett County Board of Commissioners, Justice and Administration Center, 75 Langley Drive, Lawrenceville, Georgia 30045 | December 11, 2003 | 130322 C
Whitfield | Unincorporated Areas | August 15, 2003, August 22, 2003; The Daily Citizen-News | Mr. Mike Babb, Chairman of the Whitfield County Board of Commissioners, P.O. Box 248, Dalton, Georgia 30772 | November 21, 2003 | 130193 C
Kentucky: | Lexington-Fayette Urban County Government | August 6, 2003, August 13, 2003; The Lexington Herald-Leader | The Honorable Teresa Isaac, Mayor of the Lexington-Fayette Urban County Government, 200 East Main Street, 12th Floor, Lexington, Kentucky 40507 | July 29, 2003 | 210067 C
Maryland:
Montgomery | Unincorporated Areas | July 28, 2003, August 4, 2003; The Montgomery Journal | Mr. Douglas M. Duncan, Montgomery County Executive, Executive Office Building, 101 Monroe Street, Rockville, Maryland 20850 | November 3, 2003 | 240049 C
Massachusetts:
Barnstable | Town of Bourne | September 24, 2003, October 1, 2003; Cape Cod Times | Mr. Mark A. Tirrell, Chairman of the Town of Bourne Board of Selectmen, Bourne Town Hall, 24 Perry Avenue, Buzzards Bay, Massachusetts 02532 | September 17, 2003 | 255210 F
Barnstable | Town of Bourne | September 24, 2003, October 1, 2003; Cape Cod Times | Mr. Mark A. Tirrell, Chairman of the Town of Bourne Board of Selectmen, Bourne Town Hall, 24 Perry Avenue, Buzzards Bay, Massachusetts 02532 | September 17, 2003 | 255210 E
Mississippi:
Harrison | City of Biloxi | October 3, 2003, October 10, 2003; The Sun Herald | The Honorable A.J. Holloway, Mayor of the City of Biloxi, P.O. Box 429, 140 Lameuse Street, Biloxi, Mississippi 39530 | September 26, 2003 | 285252 C
New Hampshire:
Cheshire | City of Keene | October 3, 2003, October 20, 2003; The Keene Sentinel | The Honorable Michael Blastos, Mayor of the City of Keene, City Hall, 3 Washington Street, Keene, New Hampshire 03431 | September 25, 2003 | 330023 D
New Jersey:
Union | Township of Scotch Plains | September 5, 2003, September 12, 2003; The Courier-News | The Honorable Martin L. Marks, Mayor of the Township of Scotch Plains, Municipal Building, 430 Park Avenue, Scotch Plains, New Jersey 07076 | December 12, 2003 | 340474 C
Somerset | Borough of Watchung | September 5, 2003, September 12, 2003; The Courier-News | The Honorable Albert S. Ellis, Mayor of the Borough of Watchung, 15 Mountain Boulevard, Watchung, New Jersey 07069 | Decemmber 12, 2003 | 340447 C
New York:
Dutchess | Town of Dover | July 10, 2003, July 17, 2003; Harlem Valley Times | Ms. Jill Way, Supervisor of the Town of Dover, Dover Town Hall, 126 East Duncan Hill Road, Dover Plains, New York 12522 | January 2, 2004 | 361335 A
North Carolina:
Gaston | City of Gastonia | August 18, 2003, August 25, 2003; The Gaston Gazette | The Honorable Jennifer T. Stultz, Mayor of the City of Gastonia, P.O. Box 1748, 181 South Street, Gastonia, North Carolina 28053-1748 | November 24, 2003 | 370100 E
Pennsylvania:
Montgomery | Township of Plymouth | August 29, 2003, September 5, 2003; The Times Herald | Ms. Karen Weiss, Township of Plymouth Manager, 700 Belvoir Road, Plymouth Meeting, Pennsylvania 19462 | August 20, 2003 | 420955 E
Rhode Island:
Bristol | Town of Bristol | September 12, 2003, September 19, 2003; Providence Journal | Mr. Joseph F. Parella, Bristol Town Administrator, Town Hall, Bristol, Rhode Island 02809-2208 | September 5, 2003 | 445393 F
South Carolina:
Charleston | City of Charleston | September 15, 2003, September 22, 2003; Post and Courier | The Honorable Joseph P. Riley, Jr., Mayor of the City of Charleston, P.O. Box 652, Charleston, South Carolina 29401 | December 22, 2003 | 455412 G
Charleston | Unincorporated Areas | September 15, 2003, September 22, 2003; Post and Courier | Mr. Roland H. Windham, Jr., Charleston County Administrator, 4045 Bridge View Drive, North Charleston, South Carolina 29405 | December 22, 2003 | 455413 G
Richland | Unincorporated Areas | August 19, 203, August 26, 2003; The State | Mr. T. Cary McSwain, Richland County Administrator, 2020 Hampton Street, P.O. Box 192, Columbia, South Carolina 29202 | November 25, 2003 | 450170 G
Tennessee:
Nashville and Davidson | Metropolitan Government | August 6, 2003, August 13, 2003; The Tennessean | The Honorable William Purcell, Mayor of the Metropolitan Government of Nashville and Davidson County, 107 Metropolitan Courthouse, Nashville, Tennessee 37201 | August 29, 2003 | 470040 F
Williamson | Unincorporated Areas | August 6, 2003, August 13, 2003; The Review Appeal | Mr. Roger S. Anderson, Williamson County Executive, 1320 West Main Street, Suite 100, Franklin, Tennessee 37064 | August 29, 2003 | 470204 E
Virginia:
Dickenson | Unincorporated Areas | October 1, 2003, October 8, 2003; The Dickenson Star | Mr. Keith L. Viers, Dickenson County Administrator, Administrative Office, P.O. Box 1098, Clintwood, Virginia 24228 | January 7, 2004 | 510253 C
Prince William | Unincorporated Areas | August 11, 2003, August 18, 2003; Potomac News | Mr. Craig Gerhart, Prince William County Executive, 1 County Complex Court, Prince William, Virginia 22192 | November 17, 2003 | 510119 D
Russell | Unincorporated Areas | October 1, 2003, October 8, 2003; Lebanon News | Mr. Frank Horton, Chairman of the Russell County Board of Supervisors, P.O. Box 1208, Lebanon, Virginia 24266 | January 7, 2004 | 510317 B

(Catalog of Federal Domestic Assistance No. 83.100, “Flood Insurance.”)

Dated: November 18, 2003.
Anthony S. Lowe,
Mitigation Division Director, Emergency Preparedness and Response Directorate.

[FR Doc. 03-29794 Filed 11-28-03; 8:45 am]

BILLING CODE 9110-12-P